DEPARTMENT OF JUSTICE

Notice Pursuant to the National Cooperative Research and Production Act of 1993—American Association of Blood Banks

Notice is hereby given that, on September 15, 2004, pursuant to Section 6(a) of the National Cooperative Research and Production Act of 1993, 15 U.S.C. 4301 et seq. (“the Act”), American Association of Blood Banks (“AABB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Association of Blood Banks, Bethesda, MD. The nature and scope of AABB's standards development activities are: The development of standards for voluntary compliance, and accreditation against those standards, in the areas of whole blood and blood component collection, processing and transfusion; the collection, processing and transplantation of marrow, peripheral blood and umbilical cord blood progenitor cells; tissue transplantation, and parentage testing.

Dorothy B. Fountain,
Deputy Director of Operations, Antitrust Division.

[FR Doc. 04-27871 Filed 12-20-04; 8:45 am]

BILLING CODE 4410-11-M